GENERAL SERVICES ADMINISTRATION

[OMB Control No. 3090-0080]

General Services Administration Acquisition Regulation; Information Collection; Final Payment Under Building Services Contract

AGENCY: Office of the Chief Acquisition Officer (GSA).

ACTION: Notice of request for comments regarding a renewal to an existing OMB clearance.

SUMMARY: Under the provisions of the Paperwork Reduction Act of 1995 (44 U.S.C. Chapter 35), the General Services Administration has submitted to the Office of Management and Budget (OMB) a request to review and approve an extension of a currently approved information collection requirement regarding final payment under building services contract. A request for public comments was published at 73 FR 32333, June 6, 2008. No comments were received. This OMB clearance expires on December 31, 2008.

Public comments are particularly invited on: Whether this collection of information is necessary and whether it will have practical utility; whether our estimate of the public burden of this collection of information is accurate, and based on valid assumptions and methodology; ways to enhance the quality, utility, and clarity of the information to be collected.

DATES: Submit comments on or before: January 21, 2009.

FOR FURTHER INFORMATION CONTACT: Meredith Murphy, Procurement Analyst, Contract Policy Division, at telephone (202) 208-6925 or via e-mail to meredith.murphy@gsa.gov.

ADDRESSES: Submit comments regarding this burden estimate or any other aspect of this collection of information, including suggestions for reducing this burden to Ms. Jasmeet Seehra, GSA Desk Officer, OMB, Room 10236, NEOB, Washington, DC 20503, and a copy to the Regulatory Secretariat, (VPR), General Services Administration, Room 4041, 1800 F Street, NW., Washington, DC 20405. Please cite OMB Control No. 3090-0080, Final Payment Under Building Services Contract, in all correspondence.

SUPPLEMENTARY INFORMATION:

A. Purpose

GSAR clause 552.232-72 requires building services contractors to submit a release of claims before final payment is made.

B. Annual Reporting Burden

Respondents: 2000.

Responses per Respondent: 1.

Hours per Response: .1.

Total Burden Hours: 200.

Obtaining Copies of Proposals: Requesters may obtain a copy of the information collection documents from the General Services Administration, Regulatory Secretariat (VPR), 1800 F Street, NW., Room 4041, Washington, DC 20405, telephone (202) 501-4755. Please cite OMB Control No. 3090-0080, Final Payment Under Building Services Contract, in all correspondence.

Dated: December 16, 2008.
Al Matera,
Director, Office of Acquisition Policy.

[FR Doc. E8-30289 Filed 12-19-08; 8:45 am]

BILLING CODE 6820-61-P